DEPARTMENT OF TRANSPORTATION

Federal Aviation Administration

[Docket No. 4910-13-M]

Notice of Opportunity for Public Comment on Grant Acquired Property Release at Concord Regional Airport, Concord, NC

AGENCY: Federal Aviation Administration (FAA), DOT.

ACTION: Notice.

SUMMARY: Under the provisions of Title 49, U.S.C. Section 47153(c), notice is being given that the FAA is considering a request from the City of Concord to waive the requirement that approximately 7.30 acres of airport property, located at the Concord Regional Airport, be used for aeronautical purposes.

DATES: Comments must be received on or before August 7, 2006.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the FAA must be mailed or delivered to W. Brian Hiatt, City Manager of the City of Concord at the following address: City of Concord, Post Office Box 308, Concord, NC 28026.

FOR FURTHER INFORMATION CONTACT: Rusty Nealis, Program Manager, Atlanta AIrports District Office, 1701 Columbia Ave., Suite 2-260, Atlanta, GA 30337-2747, (404) 305-7142. The application may be reviewed in person at this same location.

SUPPLEMENTARY INFORMATION: The FAA is reviewing a request by the City of Concord to release approximately 7.30 acres of airport property at the Concord Regional Airport. The property consists of one parcel roughly located on the Western edge of Ivey Cline Road approximately 600 ft. South of Popular Tent Road. This property is currently shown on the approved Airport Layout Plan as aeronautical use land; however the property is currently not being used for aeronautical purposes and the proposed use of this property is compatible with airport operations. The City will ultimately sell the property for future industrial use with proceeds of the sale providing funding for future airport development.

Any person may inspect the request in person at the FAA office listed above under FOR FURTHER INFORMATION CONTACT. In addition, any person may, upon request, inspect the request, notice and other documents germane to the request in person at the Concord Regional Airport.

Issued in Atlanta, Georgia on June 29, 2006.
Scott L. Seritt,
Manager, Atlanta Airports District Office, Southern Region.

[FR Doc. 06-6056 Filed 7-6-06; 8:45 am]

BILLING CODE 4910-13-M